DEPARTMENT OF COMMERCE

Technology Administration

[Docket Number: 030416086-01]

The Joint High Level Advisory Panel of the United States-Israel Science and Technology Commission Established Under the Memorandum of Understanding Between the Government of the United States and the Government of Israel

AGENCY: Technology Administration, Department of Commerce.

ACTION: Notice; request for nominations for the high level advisory panel.

SUMMARY: The Technology Administration invites nominations of individuals for appointment to the Joint High Level Advisory Panel of the United States-Israel Science and Technology Commission established under a Memorandum of Understanding between the Government of the United States and the Government of Israel. The Technology Administration will consider all nominations received in response to this notice of appointment to the Joint High Level Advisory Panel.

DATES: Please submit nominations on or before 5 p.m. EDT June 2, 2003.

ADDRESSES: Please submit nominations to Kathryn Sullivan, Acting International Director, Office Technology Policy, Technology Administration, Department of Commerce, Room 4821, Washington, DC 20230. Nominations may also be submitted by fax to (202) 219-3310. Additional information about the Memorandum of Understanding, the High Level Advisory Panel, and membership requirements is found below under the subheading entitled Supplementary Information.

FOR FURTHER INFORMATION CONTACT: Kathryn Sullivan, telephone (202) 482-6805; fax (202) 219-3310, e-mail Kathryn.Sullivan@ta.doc.gov

SUPPLEMENTARY INFORMATION:

Goals of the Memorandum of Understanding

In January 1994, the Government of the United States and the Government of Israel (hereafter known as “the participants”) signed a Memorandum of Understanding (MOU) establishing the United States-Israel Science and Technology Commission (hereafter known as “the Commission”) recognizing the importance of cooperative science and technology activities between interested entities in the United States and Israel, which benefit the high technology commercial sectors of the two countries and which create jobs and economic growth in both countries.

The Commission seeks to promote cooperative science and technology activities that encourage high technology industries in the United States and Israel to undertake innovative joint technology projects yielding significant economic benefits to both countries.

Cooperative Activities

The Commission encourages scientific exchanges between universities and research institutions in both countries leading to cooperative commercial activities; the promotion and development of technologies, including medical/biotechnologies, agricultural, environmental, energy, information technology, microelectronics, and telecommunication; and, harmonization of standards and regulations in the conduct of business.

Information on the High Level Advisory Panel

For the purposes of implementing this MOU, the Participants have jointly established a Joint High Level Advisory Panel to provide the Commission with advice on promotion of high technology commercialization. The Participants each designate members to the Panel drawn from leaders of both countries representing academia, industry and other relevant sectors. The Secretary of Commerce designates the members of the Advisory Panel from the United States. The Minister of Industry and Trade designates the members from Israel. The Panel has Co-Chairs from each country, designated for the United States by the Secretary of Commerce, and for Israel by the Minister of Industry and Trade.

The members of the Joint High Level Advisory Panel are expected to carry out the following functions:

1. Recommend to the Participants overall policies under the MOU;

2. Identify fields and forms of cooperation in accordance with the goals and objectives of the MOU;

3. Review, assess, and make specific recommendations concerning cooperative activities;

4. Prepare periodic reports concerning the activities of the Joint High Level Advisory Panel and cooperative activities undertaken under the MOU for submission to the Participants;

5. Undertake such further functions as may appropriately be approved by the Participants.

Meetings of the High Level Advisory Panel

The Joint High Level Advisory Panel is available to participate in meetings of the Commission at the request of the Commission Co-Chairs.

Length of Service

The Joint High Level Advisory Panel shall remain in effect until terminated by the Participants to the MOU. A member's length of service is not stipulated in the MOU and is discretionary with the Department of Commerce. Individuals chosen for membership serve a term that best fits the needs and objectives of the Joint High Level Advisory Panel.

Membership Criteria and Requirements

The U.S. members of the Joint High Level Advisory Panel shall be eminent leaders, broadly representative of industry, academia, or government, who have experience in technology development, technology diffusion, or international technology collaboration. They shall be U.S. citizens. They shall be familiar with the business climate and the status of technology and economic development in Israel, Israeli industry or with Israeli academic institutions. Members of the Panel serve without compensation.

The Department of Commerce is committed to equal opportunity in the workplace, and seeks a broad-based and diverse Panel membership.

Conflict of Interest

Nominees will be evaluated for their ability to contribute to the goals and objectives of the MOU. Nominees will be vetted in accordance with processes established by the Department of Commerce in February 1997, as soon as possible following tentative selection. The vetting system has three components: (1) An internal review for possible appearance of conflict problems; (2) an external review for possible appearance of problems; and (3) a recusal/ethics agreement review.

Dated: April 21, 2003.
Chris Israel,
Deputy Assistant Secretary for Technology Policy.

[FR Doc. 03-10814 Filed 5-1-03; 8:45 am]

BILLING CODE 3510-GN-P